DEPARTMENT OF DEFENSE

Office of the Secretary

[Docket ID DOD-2010-OS-0034]

Defense Transportation Regulation, Part IV

AGENCY: United States Transportation Command (USTRANSCOM), Department of Defense (DoD).

ACTION: Notice of announcement.

SUMMARY: Reference Federal Register Notice (FRN), Docket ID: DOD-2010-OS-0034, published April 1, 2010 (75 FR 16445-16446) and subsequently revised April 5, 2011 (76 FR 18737). We have taken industry recommendations into consideration regarding the incorporation of local moves into the intrastate/interstate program. The Surface Deployment and Distribution Command (SDDC) is conducting a Direct Procurement Method (DPM) feasibility study to determine how local moves could be better managed to serve our DoD customers. Industry will be notified of any subsequent DoD decisions associated with the future of local moves. We thank our industry partners for their review and important suggestions to improve the Defense Personal Property Program (DP3).

FOR FURTHER INFORMATION CONTACT: Mr. Jim Teague, United States Transportation Command, TCJ5/4-PI, 508 Scott Drive, Scott Air Force Base, IL 62225-5357; (618) 220-4803.

Dated: October 21, 2011.
Aaron Siegel,
Alternate OSD Federal Register Liaison Officer, Department of Defense.

[FR Doc. 2011-27654 Filed 10-25-11; 8:45 am]

BILLING CODE 5001-06-P